DEPARTMENT OF HEALTH AND HUMAN SERVICES

Centers for Disease Control and Prevention

[60Day-08-0621]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2009 and 2011 National Youth Tobacco Surveys (NYTS)—Revision—National Center for Chronic Disease Prevention and Health Promotion (NCCDPHP), Centers for Disease Control and Prevention (CDC).

Background and Brief Description

The purpose of this request is to renew OMB clearance of the National Youth Tobacco Survey (NYTS) (OMB No. 0920-0621; exp. date December 31, 2008), a national school-based study to be conducted in 2009 and 2011. The NYTS was previously funded by the American Legacy Foundation in 1999, 2000, and 2002. The NYTS was funded by CDC in 2004 and additional surveys were conducted in 2004 and 2006. The proposed revision will incorporate minor changes to the burden estimate and the survey instrument.

The NYTS is the most comprehensive source of nationally representative tobacco data among students in grades 9-12, moreover, the NYTS is the only source of such national data for students in grades 6-8. The NYTS covers the following topics related to youth tobacco use: use of cigarettes, smokeless tobacco, cigars, pipes, bidis, and kreteks; knowledge and attitudes; media and advertising; access to tobacco products and enforcement of restrictions on access; school curriculum; environmental tobacco smoke exposure; and cessation. The NYTS provides national estimates of tobacco use behaviors, information about exposure to pro- and anti-tobacco influences, and information about racial and ethnic disparities in tobacco-related topics. Information collected through the NYTS is used to identify trends over time, to inform the development of tobacco cessation programs for youth, and to evaluate the effectiveness of existing interventions and programs.

Tobacco use is a major preventable cause of morbidity and mortality in the U.S. and is one of the 28 focus areas in Healthy People 2010. Within the Healthy People 2010 focus area of tobacco use, the NYTS provides data relevant to six health objectives. The survey also provides data to monitor one of the 10 leading health indicators for Healthy People 2010 that addresses tobacco use.

In Spring 2009 and Spring 2011, the NYTS will be conducted among nationally representative samples of students attending public and private schools in grades 6-12. The NYTS is administered to students as an optically scannable, eight-page booklet of multiple-choice questions. Information supporting the NYTS also will be collected from state-, district-, and school-level administrators and teachers. The table below reports the combined total number of respondents for the 2009 and 2011 NYTS annualized over the 3-year project period.

There are no costs to respondents except their time.

Estimated Annualized Burden Hours
Type of respondents | Form name | Number of respondents | Number of responses per respondent | Average burden per response (in hours) | Total burden (in hours)
State Administrators | State-level Recruitment Script for the National Youth Tobacco Survey | 17 | 1 | 30/60 | 9
District Administrators | District-level Recruitment Script for the National Youth Tobacco Survey | 80 | 1 | 30/60 | 40.0
School Administrators | School-level Recruitment Script for the National Youth Tobacco Survey | 133 | 1 | 30/60 | 67
Teachers | Data Collection Checklist for the National Youth Tobacco Survey | 595 | 1 | 15/60 | 149
Students | National Youth Tobacco Survey | 12,659 | 1 | 45/60 | 9,494
Total |  |  |  |  | 9,759

Dated: April 8, 2008.
Maryam I. Daneshvar,
Acting Reports Clearance Officer, Centers for Disease Control and Prevention.

[FR Doc. E8-7970 Filed 4-14-08; 8:45 am]

BILLING CODE 4163-18-P